DEPARTMENT OF TRANSPORTATION

Federal Aviation Administration

14 CFR Part 39

[Docket No. FAA-2018-0791; Product Identifier 2018-NM-043-AD; Amendment 39-19523; AD 2018-25-12]

RIN 2120-AA64

Airworthiness Directives; Airbus SAS Airplanes

AGENCY: Federal Aviation Administration (FAA), Department of Transportation (DOT).

ACTION: Final rule.

SUMMARY: We are adopting a new airworthiness directive (AD) for certain Airbus SAS Model A350-941 airplanes. This AD was prompted by a determination that certain holes for the vertical tail plane (VTP) tension bolts connection are not properly protected against corrosion. This AD requires modifying the VTP tension bolts connection by adding sealant and protective treatment to the head of the connection, at the barrel nut cavities, and in the surrounding area. We are issuing this AD to address the unsafe condition on these products.

DATES: This AD is effective January 18, 2019.

The Director of the Federal Register approved the incorporation by reference of a certain publication listed in this AD as of January 18, 2019.

ADDRESSES: For the incorporation by reference (IBR) material described in the “Related IBR material under 1 CFR part 51” section in SUPPLEMENTARY INFORMATION, contact EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov.

Examining the AD Docket

You may examine the AD docket on the internet at http://www.regulations.gov by searching for and locating Docket No. FAA-2018-0791; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Kathleen Arrigotti, Aerospace Engineer, International Section, Transport Standards Branch, FAA, 2200 South 216th St., Des Moines, WA 98198; telephone and fax 206-231-3218.

SUPPLEMENTARY INFORMATION:

Discussion

We issued a notice of proposed rulemaking (NPRM) to amend 14 CFR part 39 by adding an AD that would apply to certain Airbus SAS Model A350-941 airplanes. The NPRM published in the Federal Register on September 14, 2018 (83 FR 46677). The NPRM was prompted by a determination that certain holes for the VTP tension bolts connection are not properly protected against corrosion. The NPRM proposed to require modifying the VTP tension bolts connection by adding sealant and protective treatment to the head of the connection, at the barrel nut cavities, and in the surrounding area.

We are issuing this AD to address corrosion of the VTP tension bolts connection, which could reduce the structural integrity of the VTP, and could ultimately lead to reduced controllability of the airplane.

The European Aviation Safety Agency (EASA), which is the Technical Agent for the Member States of the European Union, has issued EASA AD 2018-0045, dated February 15, 2018; corrected February 22, 2018 (“EASA AD 2018-0045”) (also referred to as the Mandatory Continuing Airworthiness Information, or “the MCAI”), to correct an unsafe condition for certain Airbus SAS Model A350-941 airplanes. The MCAI states:

It was identified that the section 19 holes for the Vertical Tail Plane (VTP) tension bolts connection are not properly protected against corrosion.

This condition, if not corrected, could reduce the structural integrity of the VTP [and could ultimately lead to reduced controllability of the airplane].

To address this unsafe condition, Airbus developed production mod 108307 and mod 110696 to improve protection against corrosion, and issued the SB [Service Bulletin A350-55-P002] to provide in-service modification instructions.

For the reasons described above, this [EASA] AD requires a modification by adding sealant and protective treatment to the head of the section 19 VTP tension bolts connection, at the barrel nut cavities and in the surrounding area.

This [EASA] AD was corrected to clarify the text of the “Modification”.

Comments

We gave the public the opportunity to participate in developing this final rule. The following presents the comments received on the NPRM and the FAA's response to each comment.

Support for the NPRM and New Process

The Air Line Pilots Association, International (ALPA) and Delta Air Lines (Delta) indicated their support for the NPRM, which was the first AD action using a new process that refers to the EASA AD as the primary source of information for compliance with the FAA AD requirements. Delta noted that the proposed AD would not disallow the “later approved revisions” language typically used in EASA ADs. Delta stated it appreciates the flexibility that the “or later versions of the Service Bulletin” language in typical EASA ADs provides, and hopes that flexibility can remain an option for future ADs.

Delta also contacted the FAA prior to posting its comments and noted that the new format for this Airbus AD is cleaner. Delta also stated that it sees many benefits to this new AD process.

The FAA acknowledges the comments from Delta. Our intent is to rely on the language in the EASA ADs whenever possible in order to simplify FAA ADs. Any differences required by the FAA will continue to be included in the FAA AD. We note that we plan to use this new process initially with certain EASA ADs that are suited to this process.

Request To Clarify if Reporting Is Not Required

Delta requested that we include a statement in the proposed AD noting that reporting is not required. Delta noted that in service bulletins containing Required for Compliance (RC) language, requests to report findings are generally in the procedures section, making the reporting RC. Delta added that including a statement in the proposed AD confirming that reporting is not required is helpful. When reporting is mandatory, Delta recommended including a “reporting requirements” paragraph in the AD that permits various reporting methods, includes the “what/how/when,” and includes a compliance time of 30 days from the return to service (not from a finding).

We agree with the commenter that if our AD does not require reporting, and reporting is within an RC paragraph of the service information referenced in the associated EASA AD, our AD should specify “no reporting” in the body of the AD. However, such wording is not necessary for this AD. EASA AD 2018-0045 does not require reporting and the service information referenced in EASA AD 2018-0045 does not specify reporting in the RC paragraphs. Therefore, we have not changed this AD in this regard.

We also agree that if reporting is mandatory in our AD, we will include a “reporting requirements” paragraph that clarifies what needs to be reported and the compliance time for reporting. Regarding the compliance time suggestion, we typically match the compliance time for reporting provided in the EASA AD. If we determine it is too short or long, we may extend or shorten the compliance time as appropriate.

Request To Identify Certain Steps as Non-RC

Delta requested that we add an exception to our proposed AD noting that reapplication of corrosion inhibiting compounds (CICs) is not RC. Delta noted that all procedures and tests in the service information referenced in EASA AD 2018-0045 are RC, and the procedure steps include things like reapplying CICs. Delta stated that if the service information or NPRM was not related to corrosion, those procedure steps might include applying CICs, but the CIC steps should not be RC. Delta explained that since the choice of CICs is under the operator's control under their corrosion prevention and control program (CPCP), the operator may now have to obtain an alternative method of compliance (AMOC) to use their standard CIC rather than what is called out in the service information, or to use an old out-of-date CIC just because it is listed in the service information. Delta recommended that RC tags never be applied to steps that call for restoring CIC unless that is the driving force in the AD.

We acknowledge that steps that do not address the identified unsafe condition should not be identified as RC steps. However, for this AD, the instructions provided in the service information, which include applying corrosion preventive compounds (CPCs), have been identified as necessary to address the unsafe condition. If an operator's CPCP includes an alternative material and the operator wants to use it instead of the material listed in an RC step, the operator must request an AMOC using the procedures in paragraph (i)(1) of this AD.

For future ADs, we will address this issue on a case-by-case basis. For some ADs, we might add an exception allowing the use of alternative CICs if they provide an acceptable level of safety. If operators identify CICs that are equal to or better than the CICs identified in the service information, they can request an AMOC using the procedures in paragraph (i)(1) of this AD.

Request To Clarify Applicability

Delta requested that we revise paragraph (c) of the proposed AD to point to the airplanes (specific serial numbers) specified in the service information referenced in EASA AD 2018-0045, rather than the airplanes identified in EASA AD 2018-0045. Delta noted that the wording of the applicability paragraph of a given AD can create an undue burden on operators. Delta stated, as an example, that if the applicability paragraph states “all 350 aircraft, except those with mod x or y embodied in production” it must prove that all airplanes are not affected, and it must write an engineering document stating that its airplanes are not affected. Delta stated that, in this example, a slight change to the wording can have a big impact. Delta suggested that if the wording in the example was changed to “this AD applies to Airbus A350 aircraft as identified in Airbus Service Bulletin A350-52-P012,” only the applicable airplanes would be identified. Delta concluded that, with revised wording, it would no longer be burdened to prove compliance for its fleet, because the applicable airplanes are listed in the service information.

We disagree with the commenter's request. The applicability in this AD matches that in EASA AD 2018-0045 to ensure that the unsafe condition is addressed on all affected airplanes. We agree with EASA's approach to identifying the AD applicability since affected serial numbers may change through modification of an airplane. If airplanes are identified by serial number, rather than airplane configuration, affected airplanes may be excluded from the AD applicability. Therefore, we have not changed this AD in this regard.

Conclusion

We reviewed the relevant data, considered the comments received, and determined that air safety and the public interest require adopting this final rule as proposed, except for minor editorial changes. We have determined that these minor changes:

• Are consistent with the intent that was proposed in the NPRM for addressing the unsafe condition; and

• Do not add any additional burden upon the public than was already proposed in the NPRM.

Related IBR Material Under 1 CFR Part 51

EASA AD 2018-0045, dated February 15, 2018; corrected February 22, 2018; describes procedures for modifying the VTP tension bolts connection by adding sealant and protective treatment to the head of the connection, at the barrel nut cavities, and in the surrounding area. This material is reasonably available because the interested parties have access to it through their normal course of business or by the means identified in the ADDRESSES section, and it is publicly available through the EASA website.

Costs of Compliance

We estimate that this AD affects 6 airplanes of U.S. registry. We estimate the following costs to comply with this AD:

Estimated Costs for Required Actions
Labor cost | Parts cost | Cost per product | Cost on U.S. operators
50 work-hours × $85 per hour = $4,250 | $9,200 | $13,450 | $80,700

According to the manufacturer, some or all of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-25-12 Airbus SAS: Amendment 39-19523; Docket No. FAA-2018-0791; Product Identifier 2018-NM-043-AD.

(a) Effective Date

This AD is effective January 18, 2019.

(b) Affected ADs

None.

(c) Applicability

This AD applies to Airbus SAS Model A350-941 airplanes, certificated in any category, as identified in European Aviation Safety Agency (EASA) AD 2018-0045, dated February 15, 2018; corrected February 22, 2018 (“EASA AD 2018-0045”).

(d) Subject

Air Transport Association (ATA) of America Code 53, Fuselage; 55, Stabilizers.

(e) Reason

This AD was prompted by a determination that the section 19 holes for the vertical tail plane (VTP) tension bolts connection are not properly protected against corrosion. We are issuing this AD to address corrosion of the VTP tension bolts connection, which could reduce the structural integrity of the VTP, and could ultimately lead to reduced controllability of the airplane.

(f) Compliance

Comply with this AD within the compliance times specified, unless already done.

(g) Requirements

Except as specified by paragraph (h) of this AD: Comply with all required actions and compliance times specified in, and in accordance with, EASA AD 2018-0045.

(h) Exceptions to EASA AD 2018-0045

(1) For purposes of determining compliance with the requirements of this AD, where EASA AD 2018-0045 refers to its effective date, this AD requires using the effective date of this AD.

(2) The “Remarks” section of EASA AD 2018-0045 does not apply to this AD.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): Any RC procedures and tests identified in the service information referenced in EASA AD 2018-0045 must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Kathleen Arrigotti, Aerospace Engineer, International Section, Transport Standards Branch, FAA, 2200 South 216th St., Des Moines, WA 98198; telephone and fax 206-231-3218.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Aviation Safety Agency (EASA) AD 2018-0045, dated February 15, 2018; corrected February 22, 2018.

(ii) [Reserved]

(3) For EASA AD 2018-0045, contact EASA, Konrad-Adenauer-Ufer 3, 50668 Cologne, Germany; telephone +49 221 89990 6017; email ADs@easa.europa.eu; Internet www.easa.europa.eu. You may find this EASA AD on the EASA website at https://ad.easa.europa.eu. You may view this EASA AD at the FAA, Transport Standards Branch, 2200 South 216th St., Des Moines, WA. For information on the availability of this material at the FAA, call 206-231-3195. EASA AD 2018-0045 may be found in the AD docket on the internet at http://www.regulations.gov by searching for and locating Docket No. FAA-2018-0791.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on November 29, 2018.
James Cashdollar,
Acting Director, System Oversight Division, Aircraft Certification Service.

[FR Doc. 2018-26536 Filed 12-13-18; 8:45 am]

BILLING CODE 4910-13-P